DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of February 1 through February 19, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-71,129; Shakespeare Company, LLC, DBA Jarden Applied Materials, Staffmark, Columbia, SC. June 9, 2008.

TA-W-71,333; Marketing Alliance Group, American Display, Array Marketing, Optimum Staffing, Chattanooga, TN. June 22, 2008.

TA-W-72,209A; JD Norman Industries, Inc., Vista Plant, Unistaff, Addison, IL. August 31, 2008.

TA-W-72,209; JD Norman Industries, Inc., Belden Plant/Unistaff, Addison, IL. August 31, 2008.

TA-W-72,388; RR Donnelley Hillside, Leased Workers from Staffmark, Hillside, IL. September 18, 2008.

TA-W-71,187; Cisco Systems, Inc., Network Management Technology Group, Boxborough, MA. May 18, 2008.

TA-W-71,986; IPSCO Tubulars (Kentucky), Inc., TMK IPSCO North America, Leased Workers Accountants to You, Kforce, Belcan, Wilder, KY. December 7, 2008.

TA-W-70,105; San Antonio Shoe, Inc., Conway Division, Conway, AR. May 18, 2008.

TA-W-71,460; Warner Electric, Altra Industrial Motion, Inc., South Beloit, IL. June 25, 2008.

TA-W-71,517; Idaho Timber of Montana, LLC, A Subsidiary of Leucadia National Corporation, Whitefish, MT. June 30, 2008.

TA-W-71,563; KB Alloys, LLC, Adecco, Robards, KY. July 7, 2008.

TA-W-71,605; Suzlon Rotor Corporation, Pipestone, MN. July 8, 2008.

TA-W-71,978A; Swanson Group Manufacturing, LLC, Swanson Group, Inc., Glendale, OR. August 5, 2008.

TA-W-71,978; Swanson Group Aviation, LLC, Swanson Group, Inc., Trucking Division, Grants Pass, OR. August 5, 2008.

TA-W-71,992; Five-M Apparel, Inc., Trenton, TN. August 10, 2008.

TA-W-72,204; CDR Manufacturing, D/B/A Ayrshire Electronics, Williamsburg, KY. August 25, 2008.

TA-W-72,206; Engineering Design and Sales, Inc. (EDS), Danville, VA. September 2, 2008.

TA-W-72,214; RIB Lake Plywood, Inc., Rib Lake, WI. September 4, 2008.

TA-W-72,230; Frantz Manufacturing Company, Bearing and Sterling Steel Ball Division, Leased Workers from Geni Temps, Sterling, IL. September 2, 2008.

TA-W-72,333; Ellwood National Crankshaft Company, Express Personnel Services and Adecco Employment Services, Irvine, PA. September 15, 2008.

TA-W-72,502; Burke Hosiery Mills, Inc., Hickory, NC. November 3, 2009.

TA-W-72,583; Mansfield Brass and Aluminum, New Washington, OH. October 13, 2008.

TA-W-72,893; Goetz Custom Technologies, LLC, Ichiban Yacht Painters, All Clear Carbon Composites, Bristol, RI. October 23, 2008.

TA-W-72,959; Ansonia Copper and Brass, Waterbury Division, Waterbury, CT. November 25, 2008.

TA-W-71,420; Business Technology Services, Inc., DBA Biztech, King of Prussia, PA. June 16, 2008.

TA-W-72,813; Sermatech International, Pennsylvania Coatings Division, Royersford, PA. November 9, 2008.

TA-W-72,292; S.C. Garment, Inc., San Francisco, CA. September 4, 2008.

The following certifications have been issued. The requirements of Section 222(a)(2)(B) (shift in production or services) of the Trade Act have been met.

TA-W-71,185; Caterpillar, Inc., Leased Workers From Kroeschell Operations, Inc., Pendergrass, GA. June 12, 2008.

TA-W-70,162; Emcore Corporation, Albuquerque, NM. May 18, 2008.

TA-W-70,456; National Semiconductor Corporation, Interface and Hi-Rel Design Centers, Leased Workers from Manpower, South Portland, ME. May 20, 2008.

TA-W-70,671; Daramic, LLC, Including on-site leased workers from Aerotech and MRI Newburgh, Owensboro, KY. May 26, 2008.

TA-W-70,734; General Motors Powertrain SMCO, Saginaw, MI. May 28, 2008.

TA-W-71,059; DuctSox Corporation, Dubuque, IA. May 27, 2008.

TA-W-71,222A; Arrow International, Inc., Telexflex, Inc./Medical Division, Reading, PA. June 5, 2008.

TA-W-71,222B; Arrow International, Inc.—Spring Ridge, Telexflex, Inc./Medical Division, Spring Ridge, PA. June 5, 2008.

TA-W-71,222; Arrow International, Inc., Telexflex, Inc./Medical Division, Wyomissing, PA. June 15, 2008.

TA-W-71,536; Symmetry Medical Cases, D/B/A Riley Medical, Kelly Services, Manpower, Auburn, ME. July 1, 2008.

TA-W-71,864; Axxion Group Corporation, Manpower and Instaff, El Paso, TX. July 28, 2008.

TA-W-72,253; Russell Brands, LLC, Administrative Services Division/Fruit of the Loom, Alexander City, AL. September 3, 2008.

TA-W-72,509; Ametek, Inc., Technical and Industrial Products Division, New Ulm, MN. October 5, 2008.

TA-W-72,593; Ciba Vision Corporation, Global Manufacturing and Supply Division, Leased Workers from Pro Unlimited, Duluth, GA. October 15, 2008.

TA-W-72,594; Heraeus Electro-Nite Company, LLC, Peru, IN. October 14, 2008.

TA-W-72,818; Denman Tire Corporation, Leavittsburg, OH. November 9, 2008.

TA-W-72,824; Phasetronics, Inc., Machine Shop Division, Clearwater, FL. November 9, 2008.

TA-W-72,862; SKF Aeroengine, AB SKF/Manpower Professionals, Manpower, Inc., Falconer, NY. November 6, 2008.

TA-W-72,889; Nortel Networks, Ltd., GSM/UMTS Voice & Packet Core Dept, Carrier Network, Richardson, TX. November 11, 2008.

TA-W-72,963; General Electric—Carolina Products Plant, GE Home and Business Solutions Div., Leased Workers Adecco Temporary Agency, Goldsboro, NC. November 16, 2008.

TA-W-73,064; Hoerbiger Drivetech USA, Inc, Staffing Solutions, Auburn, AL. December 10, 2008.

TA-W-71,567; Patsy Aiken Designs, Raleigh, NC. July 2, 2008.

TA-W-71,797A; Broyhill Furniture Industries, Inc., BCW 195/BCT 196/BCG 197, Leased Workers from People Connection, Lenoir, NC. January 10, 2009.

TA-W-71,797B; Broyhill Furniture Industries, Inc., Broyhill Transport 009, Lenoir, NC. January 10, 2009.

TA-W-71,797C; Broyhill Furniture Industries, Inc., Import Warehouse 023, Lenoir, NC. January 10, 2009.

TA-W-71,797D; Broyhill Furniture Industries, Inc., Lenoir Furniture Corp. 305, Lenoir, NC. January 10, 2009.

TA-W-71,797E; Broyhill Furniture Industries, Inc., Rutherford Distribution Center 045, Lenoir, NC. January 10, 2009.

TA-W-71,797F; Broyhill Furniture Industries, Inc., Upholstery Product Development 054, Lenoir, NC. January 10, 2009.

TA-W-71,797; Broyhill Furniture Industries, Inc., Vision One Plant 008, Leased Workers from Onin Staffing, Lenoir, NC. January 10, 2009.

TA-W-70,819; CA, Incorporate, Formerly Computer Associates, Leased Workers from CDI, Lisle, IL. May 27, 2008.

TA-W-71,241; A.O. Smith Electrical Products Company, Finance Department/Accounts Payable Subdivision, Tipp City, OH. June 16, 2008.

TA-W-71,849; Owens Illinois, Inc., Global Manufacturing (GMEC) Div., Leased Workers from ITS Technologies etc., Perrysburg, OH. July 28, 2008.

TA-W-72,100; TRG Customer Solutions, Bend, OR. August 20, 2008.

TA-W-72,519; EDS, An HP Company, Re-Branded as HP- Enterprise Services, (Electronic Data), Plano, TX. October 5, 2008.

TA-W-72,738; Knowledge Networks, Cranford, NJ. October 30, 2008.

TA-W-72,846; Hewlett Packard, Technical Support Call Center, Boise, ID. October 29, 2008.

TA-W-72,887; Hospira, Inc., Leased Workers From Kelly Services, Lake Forest Division, Lake Forest, IL. November 16, 2008.

TA-W-72,921; Kostal of America, Inc., Kostal Beteiligungsgessellschat GMBH, Leased Workers from Trialon Corp., Troy, MI. November 20, 2008.

TA-W-72,952; Damco USA, Inc. Corporate IT, Formerly known as Maersk Logisitics, Madison, NJ. November 24, 2008.

TA-W-72,969; Agfa Healthcare, Inc., Leased Workers of Find Great People, Greenville, SC. November 25, 2008.

TA-W-73,063; Bank of America, Global Client Service Large Corporate Research and Resolution Division, Concord, CA. August 3, 2008.

TA-W-71,018; The Nielsen Company, IT and Infrastructure Division, Leased Workers of TATA Consultancy Services, Green Bay, WI. May 21, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-70,517; Parker Hannifin Corporation, Nichols Portland Division, Leased Workers of Benney Staffing Services, Portland, ME. May 18, 2008.

TA-W-70,850; PCC Airfoils, LLC, Minerva Division, Precision Castparts Corp., Minerva, OH. May 29, 2008.

TA-W-71,172; Durakon Industries, Inc., Penda Corporation/Adecco and Nove Search Associates, Lapeer, MI. June 9, 2008.

TA-W-71,201; Formed Fiber Technologies, Inc., Leased Workers from Adecco, Auburn, ME. June 12, 2008.

TA-W-71,363; Frank Chervan, Inc., Manpower Temporary Services, Bedford, VA. June 12, 2008.

TA-W-72,021; Elco Sintered Alloy's Company, Inc., Kersey, PA. August 12, 2008.

TA-W-72,520; Precision Castparts Corps (PCC), Crooksville, OH. October 1, 2008.

TA-W-72,609; Valeo Climate Control Corporation, Leased Workers of Dako Resources, Auburn Hills, MI. October 16, 2008.

TA-W-72,705; Foam Tech, Inc., Leased Workers from Bradley Personnel and Select Staffing, Lexington, NC. October 28, 2008.

TA-W-71,270; Pentagon Technologies Group, Inc., Portland, OR. June 16, 2008.

TA-W-71,397; Teradyne, Inc., Semiconductor Test Div., CDI Talent Management, Richardson, TX. June 23, 2008.

TA-W-71,490; Helicranes, Inc., Bellingham, WA. June 29, 2008.

TA-W-72,004; Chesterfield Tool and Engineering, Inc., Tri-State Hone and Hydraulics Division, Daleville, IN. August 10, 2008.

The following certifications have been issued. The requirements of Section 222(c) (downstream producer for a firm whose workers are certified eligible to apply for TAA) of the Trade Act have been met.

TA-W-71,848; Systems Intergrators, LCC, Volt Technical, Glendale, AZ. July 28, 2008.

TA-W-71,979; Parts Finishing Group Indiana, Kendallville, IN. August 10, 2008.

TA-W-72,478; Hanson Trucking, Inc., Columbia Falls, MT. September 30, 2008.

TA-W-72,617; Bay Creek Manufacturing, Inc., Summersville, MO. October 16, 2008.

TA-W-72,664; Bay Creek Manufacturing, Inc., Mountain View, MO. October 22, 2008.

The following certifications have been issued. The requirements of Section 222(f) (firms identified by the International Trade Commission) of the Trade Act have been met.

TA-W-71,549; IPSCO Tubulars, Inc., TMK IPSCO North America, Leased Workers from Temps Plus, Wackenhut Security, Blytheville, AR. December 7, 2008.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-71,288; Hancock Company/IAG, dba Gitman & Co., New York, NY.

TA-W-71,359; Electrolux Major Appliance, Anderson, SC.

TA-W-71,616; Digi International, Inc., Eden Prairie, MN.

TA-W-72,029; Automotive Components Holdings, LLC, Ford Motor Co., Saline Plant Division, Saline, MI.

TA-W-72,539; Slymark Inc., Telemarketing Division, Los Angeles, CA.

TA-W-72,932;Swimwear Anywhere, Farmingdale, NY.

The investigation revealed that the criteria under paragraphs (a)(2)(A)(i) (decline in sales or production, or both) and (a)(2)(B) (shift in production or services to a foreign country) of section 222 have not been met.

TA-W-72,560; Chrysler Group, LLC, Formerly known as Chrysler, LLC, Toledo Assembly Complex, Toledo, OH.

The investigation revealed that the criteria under paragraphs(a)(2)(A) (increased imports) and (a)(2)(B) (shift in production or services to a foreign country) of section 222 have not been met.

TA-W-70,108; Woodstructures, Inc., Biddleford, ME.

TA-W-70,114; Schlumberger Technology Corporation, Fort Smith, AR.

TA-W-70,261; Stimson Lumber Company, Clatskanie, OR.

TA-W-70,271; Georgia-Pacific West, Inc., Building Products Division, Philomath, OR.

TA-W-70,366; Lennox Industries, Inc., Stuttgart Division, Stuttgart, AR.

TA-W-70,501; Cummins Power Generation, Adecco USA, Inc., Aerotek, Inc., Bartech Group, etc, Fridley, MN.

TA-W-70,529; Meridian Automotive Systems, Salisbury, NC.

TA-W-70,605; Benshaw, Inc., Curtis Wright Flow Control Company, High Point, NC.

TA-W-70,741; Cadmus Journal Services, Inc., Cenveo/Cadmus Communications, Easton, MD.

TA-W-70,762; EcoResin LLC, Forest City, NC.

TA-W-70,802; H.S. Die and Engineering, Inc., Grand Rapids, MI.

TA-W-70,910; Sypris Technologies, Sypris Solutions Division, Kenton, OH.

TA-W-70,929; International Polarizer, A Compayof PPG Industries, Manpower, Marlborough, MA.

TA-W-71,148; Avistrap an ITW Company, Illinois Tool Works Division, Lewistown, PA.

TA-W-71,191; Detroit Diesel Remanufacturing, East Division, Byesville, OH.

TA-W-71,257; Beaver Brook Mill, Inc., Nashville Plantation, ME.

TA-W-71,291; Modine Manufacturing Company, Pemberville, OH.

TA-W-71,884; Chipblaster, Inc., Meadville, PA.

TA-W-72,103; Terex USA, LLC, Cedar Rapids, IA.

TA-W-72,185; GHS Corporation, Battle Creek, MI.

TA-W-72,568; Modine Manufacturing Co., Fuel Cell Pilot Plant Division, Racine, WI.

TA-W-72,756; Hendrickson USA, LLC, Canton Trailer Manufacturing Facility, Henrickson USA, Canton, OH.

TA-W-72,966; Damascus Steel Casting Company, New Brighton, PA.

TA-W-70,736; First American Information Service Company, Data Trace, LLC Division, Santa Ana, CA.

TA-W-71,472; Ford Motor Credit Company, LLC, Dearborn Central Office Division/Ford Motor Company, Dearborn, MI.

TA-W-71,504A; United Auto Workers, aka International Union, Local 98, Indianapolis, IN.

TA-W-71,504B; United Auto Workers, aka The International Union, Local 226, Indianapolis, IN.

TA-W-71,504; United Auto Workers, aka International Union, Greater Marion County UAW/CAP, Indianapolis, IN.

TA-W-72,124; Joy Ranch, Inc., Woodlawn, VA.

TA-W-72,743; Ormet Primary Aluminum Corporation, Hannibal, OH.

TA-W-72,753; Galax Energy Concepts, Galax, VA.

TA-W-72,837; Heart Land Drilling, Inc., Abilene, TX.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of February 1 through February 19, 2010. Copies of these determinations are available for inspection in Room N-5428, U.S. Department of Labor, 200 Constitution Avenue, NW., Washington, DC 20210 during normal business hours or will be mailed to persons who write to the above address.

Dated: March 2, 2010.
Elliott S. Kushner,
Certifying Officer, Division of Trade Adjustment Assistance.

[FR Doc. 2010-5303 Filed 3-11-10; 8:45 am]

BILLING CODE 4510-FN-P